NUCLEAR REGULATORY COMMISSION

[Docket No. 72-42]

Southern Nuclear Operating Company, Incorporated; Notice of Withdrawal of Request for Exemption; for the Joseph M. Farley Nuclear Plant, Unit 1 and Unit 2

AGENCY: Nuclear Regulatory Commission.

ACTION: Notice of withdrawal of the request for exemption from the requirements of 10 CFR 72.212(a)(2) and 10 CFR 72.214.

FOR FURTHER INFORMATION CONTACT: Christopher M. Regan, Senior Project Manager, Spent Fuel Project Office, Office of Nuclear Material Safety and Safeguards, U.S. Nuclear Regulatory Commission, Washington, DC 20555. Telephone: (301) 415-1179; fax number: (301) 415-1179; e-mail: cmr1@nrc.gov.

SUPPLEMENTARY INFORMATION:

I. Discussion

In a letter dated June 9, 2005, to the U.S. Nuclear Regulatory Commission (NRC or Commission) Southern Nuclear Operating Company, Inc. (applicant or SNC) withdrew a request dated May 20, 2005, for exemption from the requirements of 10 CFR 72.212(a)(2) and 10 CFR 72.214 pursuant to 10 CFR 72.7, for the Joseph M. Farley Nuclear Plant (FNP), Unit 1 and Unit 2, facility located in Houston County, Alabama. The staff has terminated its review of the request. The request was docketed under 10 CFR Part 72; the Independent Spent Fuel Storage Installation Docket No. is 72-42.

II. Further information

In accordance with 10 CFR 2.390 of NRC's “Rules of Practice,” final NRC records and documents regarding this proposed action, including the exemption request dated May 20, 2005, and withdrawal dated June 9, 2005, are publically available in the records component of NRC's Agencywide Documents Access and Management System (ADAMS). These documents may be inspected at NRC's Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 20th day of June 2005.
For the Nuclear Regulatory Commission.
Christopher M. Regan,
Senior Project Manager, Spent Fuel Project Office, Office of Nuclear Material Safety and Safeguards.

[FR Doc. E5-3343 Filed 6-27-05; 8:45 am]

BILLING CODE 7590-01-P